DEPARTMENT OF ENERGY

Federal Energy Regulatory Commission

Notice of Environmental Site Review

York Haven Power Company, LLC | Project No. 1888-030.
Exelon Generation Company, LLC | Project No. 405-106.
Exelon Generation Company, LLC | Project No. 2355-018.

On May 21, 22, and 23, 2013, Commission staff will hold an environmental site review for the Susquehanna River Projects, including the York Haven Project (FERC No. 1888-030), the Conowingo Hydroelectric Project (FERC No. 405-106), and the Muddy Run Pumped Storage Project (FERC No. 2355-018). The projects are located on the Susquehanna River in York, Dauphin, and Lancaster counties, Pennsylvania, and Cecil and Hartford counties, Maryland. The purpose of the site review is to introduce the Commission's contractor team to the project. All participants should be prepared to provide their own transportation.

Schedule for the York Haven Hydroelectric Project Site Review

Date and Time: Tuesday, May 21, 2013, 9:00 a.m.

Location: York Haven Project, 1 Hydro Park Drive & Locust Street, York Haven, Pennsylvania 17370.

All participants planning to attend the site visit should RSVP to Dave David at (717) 266-9475 or DDavid@yorkhavenpower.com.

Schedule for the Conowingo Hydroelectric Project Site Review

Date and Time: Wednesday, May 22, 2013, 10:00 a.m.

Location: Conowingo Project, Conowingo Pavilion (next to Conowingo dam), 2569 Shures Landing Road, Darlington, Maryland 21034.

All participants planning to attend the Conowingo Project site review should RSVP to Robert Judge at (610) 765-5331 or Rober.Judge2@exeloncorp.com.

Schedule for the Muddy Run Pumped Storage Project Site Review

Date and Time: Thursday, May 23, 2013, 9:00 a.m.

Location: Visitor's Center at Muddy Run Recreation Park, Muddy Run Pumped Storage Project, 172 Bethesda Church Rd W, Holtwood, Pennsylvania.

All participants planning to attend the Muddy Run Project site review should RSVP to Robert Judge at (610) 765-5331 or Rober.Judge2@exeloncorp.com.

If you have any questions please contact Emily Carter at (202) 502-6512 or emily.carter@ferc.gov.

Dated: April 30, 2013.
Kimberly D. Bose,
Secretary.

[FR Doc. 2013-10641 Filed 5-3-13; 8:45 am]

BILLING CODE 6717-01-P